DEPARTMENT OF HOMELAND SECURITY

Federal Emergency Management Agency

44 CFR Part 65

[Docket ID FEMA-2011-0002; Internal Agency Docket No. FEMA-B-1206]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama:
Baldwin | City of Orange Beach, (11-04-0533P) | May 6, 2011; May 13, 2011; The Islander | The Honorable Tony Kennon, Mayor, City of Orange Beach, P.O. Box 458, Orange Beach, AL 36561 | April 29, 2011 | 015011
Shelby | City of Montevallo, (10-04-6506P) | May 25, 2011; June 1, 2011; The Shelby County Reporter | The Honorable Ben McCrory, Mayor, City of Montevallo, 545 South Main Street, Montevallo, AL 35115 | September 29, 2011 | 010349
Arizona:
Maricopa | City of El Mirage, (11-09-0216P) | May 12, 2011; May 19, 2011; The Arizona Business Gazette | The Honorable Lana Mook, Mayor, City of El Mirage, 12145 Northwest Grande Avenue, El Mirage, AZ 85335 | September 16, 2011 | 040041
Maricopa | City of Peoria, (11-09-0647P) | June 2, 2011; June 9, 2011; The Arizona Business Gazette | The Honorable Bob Barrett, Mayor, City of Peoria, 8401 West Monroe Street, Peoria, AZ 85345 | October 7, 2011 | 040050
Maricopa | Unincorporated areas of Maricopa County, (11-09-0216P) | May 12, 2011; May 19, 2011; The Arizona Business Gazette | The Honorable Andrew Kunasek, Chairman, Maricopa County Board of Supervisors, 301 West Jefferson Street, 10th Floor, Phoenix, AZ 85003 | September 16, 2011 | 040037
Maricopa | Unincorporated areas of Maricopa County, (11-09-0647P) | June 2, 2011; June 9, 2011; The Arizona Business Gazette | The Honorable Andrew Kunasek, Chairman, Maricopa County Board of Supervisors, 301 West Jefferson Street, 10th Floor, Phoenix, AZ 85003 | October 7, 2011 | 040037
Navajo | Town of Snowflake, (10-09-1783P) | May 27, 2011; June 3, 2011; The White Mountain Independent | The Honorable Kelly Willis, Mayor, Town of Snowflake, 81 West 1st Street South, Snowflake, AZ 85937 | October 3, 2011 | 040070
Pima | Unincorporated areas of Pima County, (11-09-0685P) | May 31, 2011; June 7, 2011; The Daily Territorial | The Honorable Ramón Valadez, Chairman, Pima County Board of Supervisors, 130 West Congress Street, 11th Floor, Tucson, AZ 85701 | October 5, 2011 | 040073
California:
San Diego | City of San Diego, (11-09-0120P) | May 6, 2011; May 13, 2011; The San Diego Daily Transcript | The Honorable Jerry Sanders, Mayor, City of San Diego, 202 C Street, 11th Floor, San Diego, CA 92101 | September 12, 2011 | 060295
Shasta | Unincorporated areas of Shasta County, (10-09-3227P) | June 1, 2011; June 8, 2011; The Red Bluff Daily News | The Honorable Les Baugh, Chairman, Shasta County Board of Supervisors, 1450 Court Street, Suite 308B, Redding, CA 96001 | October 6, 2011 | 060358
Tehama | Unincorporated areas of Tehama County, (10-09-3227P) | June 1, 2011; June 8, 2011; The Anderson Valley Post | The Honorable Greg Avilla, Chairman, Tehama County Board of Supervisors, P.O. Box 250, Red Bluff, CA 96080 | October 6, 2011 | 065064
Ventura | City of Simi Valley, (11-09-2030P) | May 6, 2011; May 13, 2011; The Ventura County Star | The Honorable Bob Huber, Mayor, City of Simi Valley, 2929 Tapo Canyon Road, Simi Valley, CA 93063 | September 12, 2011 | 060421
Colorado:
Boulder | City of Boulder, (10-08-0754P) | May 3, 2011; May 10, 2011; The Camera | The Honorable Susan Osborne, Mayor, City of Boulder, City Council Office, 1777 Broadway Street, Boulder, CO 80302 | September 7, 2011 | 080024
Boulder | Unincorporated areas of Boulder County, (10-08-0754P) | May 3, 2011; May 10, 2011; The Camera | The Honorable Ben Pearlman, Chairman, Boulder County Board of Commissioners, 1325 Pearl Street, 3rd Floor, Boulder, CO 80302 | September 7, 2011 | 080023
Rio Blanco | Town of Meeker, (11-08-0007P) | April 28, 2011; May 5, 2011; The Rio Blanco Herald Times | The Honorable Mandi Etheridge, Mayor, Town of Meeker, 345 Market Street, Meeker, CO 81641 | September 2, 2011 | 080151
Rio Blanco | Unincorporated areas of Rio Blanco County, (11-08-0007P) | April 28, 2011; May 5, 2011; The Rio Blanco Herald Times | The Honorable Kai Turner, Chairman, Rio Blanco County Board of Commissioners, P.O. Box I, Meeker, CO 81641 | September 2, 2011 | 080288
Rio Blanco | Unincorporated areas of Rio Blanco County, (11-08-0049P) | May 5, 2011; May 12, 2011; The Rio Blanco Herald Times | The Honorable Kai Turner, Chairman, Rio Blanco County Board of Commissioners, P.O. Box I, Meeker, CO 81641 | September 9, 2011 | 080288
Florida:
Charlotte | Unincorporated areas of Charlotte County, (11-04-4544P) | May 31, 2011; June 7, 2011; The Charlotte Sun | The Honorable Bob Starr, Chairman, Charlotte County Board of Commissioners, 18500 Murdock Circle, Port Charlotte, FL 33948 | May 25, 2011 | 120061
Miami-Dade | City of Sweetwater, (11-04-3782P) | June 1, 2011; June 8, 2011; The Miami Daily Business Review | The Honorable Manuel M. Maroño, Mayor, City of Sweetwater, 500 Southwest 109th Avenue, Sweetwater, FL 33174 | May 25, 2011 | 120660
Monroe | Unincorporated areas of Monroe County, (11-04-3523P) | May 31, 2011; June 7, 2011; The Key West Citizen | The Honorable Heather Carruthers, Mayor, Monroe County, 530 Whitehead Street, Key West, FL 33040 | May 25, 2011 | 125129
Pasco | Unincorporated areas of Pasco County, (10-04-8088P) | May 6, 2011; May 13, 2011; The Tampa Tribune | The Honorable Ann Hildebrand, Chair, Pasco County Board of Commissioners, 7530 Little Road, New Port Richey, FL 34654 | April 29, 2011 | 120230
St. Lucie | Unincorporated areas of St. Lucie County, (11-04-1456P) | May 6, 2011; May 13, 2011; The St. Lucie News-Tribune | The Honorable Chris Craft, Chairman, St. Lucie County Board of Commissioners, 2300 Virginia Avenue, Ft. Pierce, FL 34982 | April 27, 2011 | 120285
New York: Oneida | City of Sherrill, (10-02-0242P) | June 11, 2010; June 17, 2010; The Oneida Daily Dispatch | Mr. Robert A. Comis, Sherill City Manager, 377 Sherrill Road, Sherrill, NY 13461 | December 3, 2010 | 360544
North Carolina:
Alamance | City of Burlington, (10-04-4375P) | May 6, 2011; May 13, 2011; The Times-News | The Honorable Ronnie K. Wall, Mayor, City of Burlington, P.O. Box 1358, Burlington, NC 27216 | September 12, 2011 | 370002
Alamance | Town of Elon, (10-04-4375P) | May 6, 2011; May 13, 2011; The Times-News | The Honorable Jerry R. Tolley, Mayor, Town of Elon, 104 South Williamson Avenue, Elon, NC 27244 | September 12, 2011 | 370411
Buncombe | Unincorporated areas of Buncombe County, (10-04-2274P) | May 13, 2011; May 20, 2011; The Asheville Citizen-Times | Ms. Wanda Greene, Buncombe County Manager, 205 College Street, Suite 300, Asheville, NC 28801 | September 19, 2011 | 370031
Davidson | Unincorporated areas of Davidson County, (10-04-3473P) | May 6, 2011; May 13, 2011; The High Point Enterprise | Mr. Robert Hyatt, Davidson County Manager, 913 Greensboro Street, Lexington, NC 27292 | September 12, 2011 | 370307
Guilford | City of High Point, (10-04-3473P) | May 6, 2011; May 13, 2011; The High Point Enterprise | The Honorable Rebecca R. Smothers, Mayor, City of High Point, P.O. Box 230, 211 South Hamilton Street, High Point, NC 27261 | September 12, 2011 | 370113
Madison | Unincorporated areas of Madison County, (10-04-8485P) | March 30, 2011; April 6, 2011; The News-Record & Sentinel | Mr. Steve Garrison, Madison County Manager, P.O. Box 579, Marshall, NC 28753 | August 4, 2011 | 370152
Texas: Denton | City of Lewisville, (10-06-3039P) | May 26, 2011; June 2, 2011; The Denton Record-Chronicle | The Honorable Dean Ueckert, Mayor, City of Lewisville, 151 West Church Street, Lewisville, TX 75029 | June 20, 2011 | 480195
Utah: Salt Lake | City of West Jordan, (11-08-0575P) | April 29, 2011; May 6, 2011; The Salt Lake Tribune | The Honorable Melissa K. Johnson, Mayor, City of West Jordan, 8000 South Redwood Road, West Jordan, UT 84088 | April 25, 2011 | 490108

(Catalog of Federal Domestic Assistance No. 97.022, “Flood Insurance.”)

Dated: July 29, 2011.
Sandra K. Knight,
Deputy Federal Insurance and Mitigation Administrator, Mitigation, Department of Homeland Security, Federal Emergency Management Agency.

[FR Doc. 2011-20716 Filed 8-12-11; 8:45 am]

BILLING CODE 9110-12-P